DEPARTMENT OF COMMERCE

Patent and Trademark Office

Performance Review Board (PRB)

AGENCY: United States Patent and Trademark Office.

ACTION: Notice; Update membership list of the United States Patent and Trademark Office Performance Review Board.

SUMMARY: In conformance with the Civil Service Reform Act of 1978, 5 U.S.C. 4314(c)(4), the United States Patent and Trademark Office announces the appointment of persons to serve as members of its Performance Review Board.

ADDRESSES: Operations Manager, Office of Human Resources, United States Patent and Trademark Office, P.O. Box 1450, Alexandria, VA 22313-1450.

FOR FURTHER INFORMATION CONTACT: William Covey at (703) 305-8062.

SUPPLEMENTARY INFORMATION: The membership of the United States Patent and Trademark Office Performance Review Board is as follows:

Jonathan W. Dudas, Chair, Deputy Under Secretary of Commerce for Intellectual and Deputy Director of the United States Patent and Trademark Office, United States Patent and Trademark Office, P.O. Box 1450, Alexandria, VA 22313-1450, Term expires September 30, 2004.

Jo-Anne D. Barnard, Vice Chair, Chief Financial Officer and Chief Administrative Officer, United States Patent and Trademark Office, P.O. Box 1450, Alexandria, VA 22313-1450, Term expires September 30, 2005.

Nicholas Godici, Commissioner for Patents, United States Patent and Trademark Office, P.O. Box 1450, Alexandria, VA 22313-1450, Term expires September 30, 2005.

Anne Chasser, Commissioner for Trademarks, United States Patent and Trademark Office, P.O. Box 1450, Alexandria, VA 22313-1450, Term expires September 30, 2005.

Douglas Bourgeois, Chief Information Officer, United States Patent and Trademark Office, P.O. Box 1450, Alexandria, VA 22313-1450, Term expires September 30, 2004.

James Toupin, General Counsel, United States Patent and Trademark Office, P.O. Box 1450, Alexandria, VA 22313-1450, Term expires September 30, 2004.

Lois E. Boland, Director of International Relations, United States Patent and Trademark Office, P.O. Box 1450, Alexandria, VA 22313-1450, Term expires September 30, 2005.

James Taylor, Deputy Chief Financial Officer and Director for Financial Management, Department of Commerce, Washington, DC 20230, Term expires September 30, 2004.

K. David Holmes, Jr., Assistant Administrator, Internal Affairs and Program Reviews, Transportation Security Administration, Department of Homeland Security, 701 12th Street, West Tower, Arlington, VA 22202, Term expires September 30, 2004.

Dated: October 17, 2003.
James E. Rogan,
Under Secretary of Commerce for Intellectual Property and Director of the United States Patent and Trademark Office.

[FR Doc. 03-26906 Filed 10-23-03; 8:45 am]

BILLING CODE 3510-16-P